DEPARTMENT OF TRANSPORTATION

Federal Aviation Administration

14 CFR Part 39

[Docket No. FAA-2024-0040; Project Identifier MCAI-2023-01196-T; Amendment 39-22738; AD 2024-08-05]

RIN 2120-AA64

Airworthiness Directives; Airbus SAS Airplanes

AGENCY: Federal Aviation Administration (FAA), DOT.

ACTION: Final rule.

SUMMARY: The FAA is superseding Airworthiness Directive (AD) 2014-15-09, AD 2020-15-09, and AD 2022-16-07. AD 2014-15-09 applied to all Airbus SAS Model A330-200 Freighter, A330-200 and -300, and A340-200, -300, -500, and -600 series airplanes. AD 2020-15-09 applied to all Airbus SAS Model A330-941 airplanes. AD 2014-15-09 and AD 2020-15-09 required repetitive operational tests of the hydraulic locking function on certain spoiler servo-controls (SSCs) and replacement if necessary. AD 2022-16-07 applied to certain Airbus SAS Model A330-200, A330-200 Freighter, and A330-300 series airplanes. AD 2022-16-07 required revising the existing maintenance or inspection program, as applicable, to incorporate new or more restrictive airworthiness limitations. This AD was prompted by the determination that new or more restrictive airworthiness limitations are necessary. This AD continues to require certain actions in AD 2014-15-09, AD 2020-15-09, and AD 2022-16-07 and requires revising the existing maintenance or inspection program, as applicable, to incorporate new or more restrictive airworthiness limitations, as specified in a European Union Aviation Safety Agency (EASA), which is incorporated by reference. This AD also removes Model A340-200, -300, -500, and -600 series airplanes from the applicability. The FAA is issuing this AD to address the unsafe condition on these products.

DATES: This AD is effective July 19, 2024.

The Director of the Federal Register approved the incorporation by reference of a certain publication listed in this AD as of July 19, 2024.

The Director of the Federal Register approved the incorporation by reference of a certain other publication listed in this AD as of September 27, 2022 (87 FR 51585, August 23, 2022).

The Director of the Federal Register approved the incorporation by reference of a certain other publication listed in this AD as of September 3, 2020 (85 FR 45767, July 30, 2020).

The Director of the Federal Register approved the incorporation by reference of a certain other publication listed in this AD as of September 5, 2014 (79 FR 44663, August 1, 2014).

ADDRESSES:

AD Docket: You may examine the AD docket at regulations.gov under Docket No. FAA-2024-0040; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material, contact EASA, Konrad-Adenauer-Ufer 3, 50668 Cologne, Germany; telephone +49 221 8999 000; email ADs@easa.europa.eu; website easa.europa.eu. You may find this material on the EASA website at ad.easa.europa.eu.

• For Airbus service information, contact Airbus SAS, Airworthiness Office—EAL, Rond-Point Emile Dewoitine No: 2, 31700 Blagnac Cedex, France; telephone +33 5 61 93 36 96; fax +33 5 61 93 45 80; email airworthiness.A330-A340@airbus.com; website airbus.com.

• You may view this material at the FAA, Airworthiness Products Section, Operational Safety Branch, 2200 South 216th St., Des Moines, WA. For information on the availability of this material at the FAA, call 206-231-3195. It is also available in the AD docket at regulations.gov under Docket No. FAA-2024-0040.

FOR FURTHER INFORMATION CONTACT: Vladimir Ulyanov, Aviation Safety Engineer, FAA, 1600 Stewart Avenue, Suite 410, Westbury, NY 11590; telephone 206-231-3229; email Vladimir.ulyanov@faa.gov.

SUPPLEMENTARY INFORMATION:

Background

The FAA issued a notice of proposed rulemaking (NPRM) to amend 14 CFR part 39 to supersede AD 2014-15-09, Amendment 39-17911 (79 FR 44663, August 1, 2014) (AD 2014-15-09); AD 2020-15-09, Amendment 39-21172 (85 FR 45767, July 30, 2020) (AD 2020-15-09); and AD 2022-16-07, Amendment 39-22136 (87 FR 51585, August 23, 2022) (AD 2022-16-07).

AD 2014-15-09 applied to all Airbus SAS Model A330-200 Freighter, A330-200 and -300, and A340-200, -300, -500, and -600 series airplanes. AD 2014-15-09 required repetitive operational tests of the hydraulic locking function on certain SSCs and replacement if necessary. The FAA issued AD 2014-15-09 to address loss of the hydraulic locking function during take-off, which, in combination with one inoperative engine, could result in reduced controllability of the airplane.

AD 2020-15-09 applied to all Airbus SAS Model A330-941 airplanes. AD 2020-15-09 required repetitive operational tests of the hydraulic locking function on certain SSCs and replacement if necessary. The FAA issued AD 2020-15-09 to address loss of hydraulic locking function on the SSCs, which in combination with one engine inoperative at takeoff, could result in reduced controllability of the airplane.

AD 2022-16-07 applied to certain Airbus SAS Model A330-200, A330-200 Freighter, and A330-300 series airplanes. AD 2022-16-07 required revising the existing maintenance or inspection program, as applicable, to incorporate new or more restrictive airworthiness limitations. The FAA issued AD 2022-16-07 to address a safety-significant latent failure (that is not annunciated) that, in combination with one or more other specific failures or events, could result in a hazardous or catastrophic failure condition.

The NPRM published in the Federal Register on January 31, 2024 (89 FR 6051). The NPRM was prompted by AD 2023-0199, dated November 17, 2023 (EASA AD 2023-0199) (also referred to as the MCAI), issued by EASA, which is the Technical Agent for the Member States of the European Union. The MCAI states that new or more restrictive airworthiness limitations have been developed.

In the NPRM, the FAA proposed to continue to require certain actions in AD 2014-15-09, AD 2020-15-09, and AD 2022-16-07 and proposed to require revising the existing maintenance or inspection program, as applicable, to incorporate new or more restrictive airworthiness limitations as specified in EASA AD 2023-0199. The FAA is issuing this AD to address safety-significant latent failure (that is not annunciated) that, in combination with one or more other specific failures or events, could result in a hazardous or catastrophic failure condition.

You may examine the MCAI in the AD docket at regulations.gov under Docket No. FAA-2024-0040.

Discussion of Final Airworthiness Directive

Comments

The FAA received a comment from Air Line Pilots Association, International (ALPA), who supported the NPRM without change.

The FAA received an additional comment from Delta Air Lines (Delta). The following presents FAA's response to the comment.

Request for an Exception To Clarify a Compliance Time

Delta requested that an exception be added to paragraph (q) of the proposed AD to clarify a compliance time that refers to an EASA AD effective date. Delta stated that tasks 282400-G0001-1-C and 282400-P0001-1-C in the Airbus A330 Airworthiness Limitations Section (ALS), Part 3, Revision 08, dated October 2, 2023, have a compliance time that states “24 Months from the Effective Date of the EASA Airworthiness Directive that is expected to be issued to mandate this change, without exceeding the current 29 000 FH.” Delta stated the reason for the request is to include a clear statement in the exception that will include the document that references the EASA AD effective date.

The FAA agrees the compliance time is not clearly defined. The FAA has added an exception to paragraph (q)(6) of this AD to clarify that the 24-month compliance time refers to the effective date of this AD.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

The FAA reviewed EASA AD 2023-0199. This service information specifies new or more restrictive airworthiness limitations for airplane structures, including the repetitive operational tests required by EASA AD 2013-0251, dated October 15, 2013; Correction dated October 16, 2013; and EASA AD 2020-0054, dated March 11, 2020 (which correspond to FAA AD 2014-15-09 and FAA AD 2020-15-09).

This AD also requires EASA AD 2021-0248, which the Director of the Federal Register approved for incorporation by reference as of September 27, 2022 (87 FR 51585, August 23, 2022).

This AD also requires EASA AD 2020-0054, which the Director of the Federal Register approved for incorporation by reference as of September 3, 2020 (85 FR 45767, July 30, 2020).

This AD also requires Airbus Service Bulletin A330-27-3195, Revision 01, dated February 6, 2014, which the Director of the Federal Register approved for incorporation by reference as of September 5, 2014 (79 FR 44663, August 1, 2014).

This material is reasonably available because the interested parties have access to it through their normal course of business or by the means identified in the ADDRESSES section.

Costs of Compliance

The FAA estimates that this AD affects 142 airplanes of U.S. registry. The FAA estimates the following costs to comply with this AD:

The FAA estimates the total cost per operator for the retained actions from AD 2022-16-07 to be $7,650 (90 work-hours × $85 per work-hour).

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate.

The FAA estimates the total cost per operator for the new actions to be $7,650 (90 work-hours × $85 per work-hour).

Estimated Costs for Other Retained Actions
Action | Labor cost | Parts cost | Cost per product | Cost on U.S. operators
Retained actions from AD 2014-15-09 and AD 2020-15-09 | 6 work-hours × $85 per hour = $510 | $0 | $510 | $72,420

The FAA estimates the following costs to do any necessary on-condition actions that would be required based on the results of any required actions. The agency has no way of determining the number of aircraft that might need on-condition actions:

Estimated Costs of On-Condition Actions
Labor cost | Parts cost | Cost per product
3 work-hours × $85 per hour = $255 | $35,000 | $35,255

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2014-15-09, Amendment 39-17911 (79 FR 44663, August 1, 2014); AD 2020-15-09, Amendment 39-21172 (85 FR 45767, July 30, 2020); and AD 2022-16-07, Amendment 39-22136 (87 FR 51585, August 23, 2022); and

b. Adding the following new AD:

2024-08-05 Airbus SAS: Amendment 39-22738; Docket No. FAA-2024-0040; Project Identifier MCAI-2023-01196-T.

(a) Effective Date

This airworthiness directive (AD) is effective July 19, 2024.

(b) Affected ADs

This AD replaces the ADs identified in paragraphs (b)(1) through (3) of this AD.

(1) AD 2014-15-09, Amendment 39-17911 (79 FR 44663, August 1, 2014) (AD 2014-15-09).

(2) AD 2020-15-09, Amendment 39-21172 (85 FR 45767, July 30, 2020) (AD 2020-15-09).

(3) AD 2022-16-07, Amendment 39-22136 (87 FR 51585, August 23, 2022) (AD 2022-16-07).

(c) Applicability

This AD applies to Airbus SAS Model A330-201, -202, -203, -223, -223F, -243, -243F, -301, -302, -303, -321, -322, -323, -341, -342, -343, -841, and -941 airplanes, certificated in any category, with an original airworthiness certificate or original export certificate of airworthiness issued on or before October 2, 2023.

(d) Subject

Air Transport Association (ATA) of America Code 05, Time Limits/Maintenance Checks.

(e) Unsafe Condition

This AD was prompted by a determination that new or more restrictive airworthiness limitations are necessary. The FAA is issuing this AD to address a safety-significant latent failure (that is not annunciated) that, in combination with one or more other specific failures or events, could result in a hazardous or catastrophic failure condition.

(f) Compliance

Comply with this AD within the compliance times specified, unless already done.

(g) Retained Repetitive Operational Tests of Spoiler Servo-Controls (SSCs) for Certain Airplanes, With Removed References to Model A340 Service Information

This paragraph restates the requirements of paragraph (g) of AD 2014-15-09, with removed references to Model A340 service information. For Model A330-201, -202, -203, -223, -223F, -243, -243F, -301, -302, -303, -321, -322, -323, -341, -342, and -343 airplanes: At the latest of the times specified in paragraphs (g)(1) through (3) of this AD, accomplish an operational test of the hydraulic locking function on each SSC (any type), when fitted on the Blue or Yellow hydraulic circuits, in accordance with the Accomplishment Instructions of Airbus Service Bulletin A330-27-3195, Revision 01, dated February 6, 2014. Repeat the operational test thereafter at intervals not to exceed 48 months. Accomplishing the revision of the existing maintenance or inspection program required by paragraph (p) of this AD terminates the requirements of this paragraph.

(1) Within 48 months since first flight of the airplane.

(2) Within 48 months since accomplishing the most recent operational test, as specified in Airbus All Operators Telex (AOT) A330-27A3185; dated January 4, 2012.

(3) Within 24 months after September 5, 2014 (the effective date of AD 2014-15-09).

(h) Retained Credit for Previous Actions for Paragraph (g) of This AD, With Removed References to Model A340 Service Information

This paragraph restates the credit provided in paragraph (h) of AD 2014-15-09, with removed references to Model A340 service information. This paragraph provides credit for the actions required by paragraph (g) of this AD, if those actions were performed before September 5, 2014 (the effective date of AD 2014-15-09) using Airbus Service Bulletin A330-27-3195, dated December 7, 2012.

(i) Retained Replacement of Affected SSCs Found During the Test Required by Paragraph (g) of This AD, With Removed References to Model A340 Service Information

This paragraph restates the replacement required by paragraph (i) of AD 2014-15-09, with removed references to Model A340 service information. If, during any operational test required by paragraph (g) of this AD, the hydraulic locking function of an SSC fails the test, before further flight, replace the affected SSC with a serviceable part, in accordance with the Accomplishment Instructions of Airbus Service Bulletin A330-27-3195, Revision 01, dated February 6, 2014.

(j) Retained No Terminating Action for Paragraph (g) of This AD, With No Changes

This paragraph restates the no terminating action statement specified in paragraph (j) of AD 2014-15-09, with no changes. Doing the replacement required by paragraph (i) of this AD is not terminating action for the repetitive operational tests required by paragraph (g) of this AD.

(k) Retained Repetitive Operational Tests and Replacement of Affected SSCs for Model A330-941 Airplanes, With No Changes

This paragraph restates the requirements of paragraph (g) of AD 2020-15-09, with no changes. For Model A330-941 airplanes: Except as specified in paragraph (l) of this AD: Comply with all required actions and compliance times specified in, and in accordance with, European Union Aviation Safety Agency (EASA) AD 2020-0054, dated March 11, 2020 (EASA AD 2020-0054). Accomplishing the revision of the existing maintenance or inspection program required by paragraph (p) of this AD terminates the requirements of this paragraph.

(l) Retained Exceptions to EASA AD 2020-0054, With No Changes

This paragraph restates the exceptions specified in paragraph (h) of AD 2020-15-09, with no changes. The “Remarks” section of EASA AD 2020-0054 does not apply to this AD.

(m) Retained Revision of the Existing Maintenance or Inspection Program, With No Changes

This paragraph restates the requirements of paragraph (i) of AD 2022-16-07, with no changes. For airplanes with an original airworthiness certificate or original export certificate of airworthiness issued on or before July 1, 2021: Except as specified in paragraph (n) of this AD: Comply with all required actions and compliance times specified in, and in accordance with, EASA AD 2021-0248, dated November 15, 2021 (EASA AD 2021-0248). Accomplishing the revision of the existing maintenance or inspection program required by paragraph (p) of this AD terminates the requirements of this paragraph.

(n) Retained Exceptions to EASA AD 2021-0248, With No Changes

This paragraph restates the exceptions specified in paragraph (j) of AD 2022-16-07, with no changes.

(1) Where EASA AD 2021-0248 refers to its effective date, this AD requires using September 27, 2022 (the effective date of AD 2022-16-07).

(2) The requirements specified in paragraphs (1) and (2) of EASA AD 2021-0248 do not apply to this AD.

(3) Paragraph (3) of EASA AD 2021-0248 specifies revising “the approved AMP [aircraft maintenance program]” within 12 months after its effective date, but this AD requires revising the existing maintenance or inspection program, as applicable, within 90 days after September 27, 2022 (the effective date of AD 2022-16-07).

(4) The initial compliance time for doing the tasks specified in paragraph (3) of EASA 2021-0248 is at the applicable “associated thresholds,” as incorporated by the requirements of paragraph (3) of EASA AD 2021-0248, or within 90 days after September 27, 2022 (the effective date of AD 2022-16-07), whichever occurs later.

(5) The provisions specified in paragraphs (4) and (5) of EASA AD 2021-0248 do not apply to this AD.

(6) The “Remarks” section of EASA AD 2021-0248 does not apply to this AD.

(o) Retained Provisions on Alternative Actions and Intervals, With a New Exception

This paragraph restates the provisions specified in paragraph (k) of AD 2022-16-07, with a new exception. Except as required by paragraph (p) of this AD, after the existing maintenance or inspection program has been revised as required by paragraph (m) of this AD, no alternative actions (e.g., inspections) and intervals are allowed unless they are approved as specified in the provisions of the “Ref. Publications” section of EASA AD 2021-0248.

(p) New Revision of the Existing Maintenance or Inspection Program

Except as specified in paragraph (q) of this AD: Comply with all required actions and compliance times specified in, and in accordance with, EASA AD 2023-0199, dated November 17, 2023 (EASA AD 2023-0199). Accomplishing the revision of the existing maintenance or inspection program required by this paragraph terminates the requirements of paragraphs (g), (k), and (m) of this AD.

(q) Exceptions to EASA AD 2023-0199

(1) This AD does not adopt the requirements specified in paragraphs (1) and (2) of EASA AD 2023-0199.

(2) Paragraph (3) of EASA AD 2023-0199 specifies revising “the AMP,” within 12 months after its effective date, but this AD requires revising the existing maintenance or inspection program, as applicable, within 90 days after the effective date of this AD.

(3) The initial compliance time for doing the tasks specified in paragraph (3) of EASA AD 2023-0199 is at the applicable “associated thresholds” as incorporated by the requirements of paragraph (3) of EASA AD 2023-0199, or within 90 days after the effective date of this AD, whichever occurs later.

(4) This AD does not adopt the provisions specified in paragraphs (4) and (5) of EASA AD 2023-0199.

(5) This AD does not adopt the “Remarks” section of EASA AD 2023-0199.

(6) Where the service information referenced in EASA AD 2023-0199 specifies the compliance time for tasks 282400-G0001-1-C and 282400-P0001-1-C as “24 Months from the Effective Date of the EASA Airworthiness Directive that is expected to be issued to mandate this change, without exceeding the current 29 000 FH”, this AD requires using within 24 months after the effective date of this AD, without exceeding the current 29,000 flight hour interval.

(r) New Provisions for Alternative Actions and Intervals

After the existing maintenance or inspection program has been revised as required by paragraph (p) of this AD, no alternative actions (e.g., inspections) and intervals are allowed unless they are approved as specified in the provisions of the “Ref. Publications” section of EASA AD 2023-0199.

(s) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (t)(1) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): For any service information referenced in EASA AD 2020-0054 that contains RC procedures and tests: Except as required by paragraph (s)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(t) Additional Information

(1) For more information about this AD, contact Vladimir Ulyanov, Aviation Safety Engineer, FAA, 1600 Stewart Avenue, Suite 410, Westbury, NY 11590; telephone 206-231-3229; email Vladimir.ulyanov@faa.gov.

(2) Service information identified in this AD that is not incorporated by reference is available at the addresses specified in paragraphs (u)(8) of this AD.

(u) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on July 19, 2024.

(i) European Union Aviation Safety Agency (EASA) AD 2023-0199, dated November 17, 2023.

(ii) [Reserved]

(4) The following service information was approved for IBR on September 27, 2022 (87 FR 51585, August 23, 2022).

(i) EASA AD 2021-0248, dated November 15, 2021.

(ii) [Reserved]

(5) The following service information was approved for IBR on September 3, 2020 (85 FR 45767, July 30, 2020).

(i) EASA AD 2020-0054, dated March 11, 2020.

(ii) [Reserved]

(6) The following service information was approved for IBR on September 5, 2014 (79 FR 44663, August 1, 2014).

(i) Airbus Service Bulletin A330-27-3195, Revision 01, dated February 6, 2014.

(ii) [Reserved]

(7) For EASA AD 2020-0054, EASA AD 2021-0248, and EASA AD 2023-0199, contact EASA, Konrad-Adenauer-Ufer 3, 50668 Cologne, Germany; telephone +49 221 8999 000; email ADs@easa.europa.eu; website easa.europa.eu. You may find these EASA ADs on the EASA website at ad.easa.europa.eu.

(8) For Airbus service information, contact Airbus SAS, Airworthiness Office—EAL, Rond-Point Emile Dewoitine No: 2, 31700 Blagnac Cedex, France; telephone +33 5 61 93 36 96; fax +33 5 61 93 45 80; email airworthiness.A330-A340@airbus.com; website airbus.com.

(9) You may view this material at the FAA, Airworthiness Products Section, Operational Safety Branch, 2200 South 216th St., Des Moines, WA. For information on the availability of this material at the FAA, call 206-231-3195.

(10) You may view this material at the National Archives and Records Administration (NARA). For information on the availability of this material at NARA, visit www.archives.gov/federal-register/cfr/ibr-locations, or email fr.inspection@nara.gov.

Issued on April 17, 2024.
Victor Wicklund,
Deputy Director, Compliance & Airworthiness Division, Aircraft Certification Service.

[FR Doc. 2024-13013 Filed 6-13-24; 8:45 am]

BILLING CODE 4910-13-P